ENVIRONMENTAL PROTECTION AGENCY

[FRL-7470-3]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place in Deming, New Mexico, on April 9 and 10, 2003. It is open to the public.

DATES: On April 9, the meeting will begin at 8:30 a.m. (registration at 8 a.m.) and end at 5:30 p.m. On April 10, the Board will hold a routine business meeting from 8 a.m. until 12 noon (registration at 7:30 a.m.).

ADDRESSES: The meeting site is the Mimbres Valley Special Events Center, 2300 E. Pine St., Deming, New Mexico.

FOR FURTHER INFORMATION CONTACT: Elaine M. Koerner, Designated Federal Officer of the Good Neighbor Environmental Board, U.S. Environmental Protection Agency Region 9 Office, 75 Hawthorne St., San Francisco, California 94105. Tel: (415) 972-3437; E-mail: koerner.elaine@epa.gov.

Meeting Access: Individuals requiring special accommodation at this meeting, including wheelchair access to the conference room, should contact the Designated Federal Officer at least five business days prior to the meeting so that appropriate arrangements can be made.

SUPPLEMENTARY INFORMATION: Agenda: On the morning of April 9, the first day of the meeting, guest speakers will discuss management techniques for groundwater, including the Mimbres Aquifer. The morning session will begin at 8:30 a.m. and conclude with a public comment session from 12-12:30 p.m. During the afternoon session, beginning at 2 p.m., guest speakers will discuss innovative environmental technology such as wind energy, solar stills, and water management technology. A second public comment session will be held from 5-5:30 p.m., which will conclude the first day of the meeting. For both public comment sessions on April 9th, the Board invites comments on a wide range of issues, including the topic for its upcoming Seventh Report: links between children's health in the border region and the region's environmental infrastructure.

The second day of the meeting, April 10, will begin at 8 a.m. and conclude at 11:45 a.m. The format will be a routine business meeting, with agenda items including approval of minutes, planning for upcoming meetings, and status of reports.

Public Attendance: The public is welcome to attend all portions of the meeting. Members of the public who plan to file written statements and/or make brief (suggested 5-minute limit) oral statements at the public comment session are encouraged to contact the Designated Federal Officer for the Board prior to the meeting.

Background: The Good Neighbor Environmental Board meets three times each calendar year at different locations along the U.S.-Mexico border and also holds an annual strategic planning session. It was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Public Law 92-463).

Oscar Carrillo,
Designated Federal Officer.

[FR Doc. 03-6705 Filed 3-19-03; 8:45 am]

BILLING CODE 6560-50-M